DEPARTMENT OF ENERGY

Federal Energy Regulatory Commission

[Docket No. RM00-12-000 and Docket No. RM05-32-000]

Electronic Filing of Documents; Repeal of the Public Utility Holding Company Act of 1935 and Enactment of the Public Utility Holding Company Act of 2005; Version 6.1 Release for Electronic Filing System and Revised Guidelines for Filings Under the Public Utility Holding Company Act of 2005

April 7, 2006.

Take notice that the Commission has upgraded its Electronic Filing (eFiling) System to Version 6.1. The new release provides additional on-screen guidance for each screen, and adds the new qualified document filing types defined in Attachment A to this notice. The new filing types will be added to the list of qualified documents at: http://www.ferc.gov/docs-filing/efiling/docs-efiled.asp.

Some of the new qualified document types pertain to filings under the Public Utility Holding Company Act of 2005 (PUHCA 2005) for which the Commission previously issued electronic filing guidelines. The new release makes it necessary to revise the previously issued guidelines. The revised filing guidelines for FERC Form 60, FERC 65, FERC 65A and FERC 65B are included in Attachment B, and will be posted on the Commission's Web site at: http://www.ferc.gov/help/how-to/puhca-guidelines.pdf.

Attachment C contains a new filing guideline for submitting Form 523—Request for Permission to Issue Securities (18 CFR Part 34). These procedures will also be posted on the Commission's Web site at: http://www.ferc.gov/help/how-to.asp.

In accordance with 18 CFR 385.2003(c), the Secretary of the Commission is authorized to issue and amend a list of qualified documents only to the extent that no additional requirements are placed upon submitters of electronic documents beyond those contained in the Commission's regulations. The eFiling system is a voluntary paperless alternative to paper submission of certain documents. In terms of the user interface, Version 6.1 is similar to the previous version. There are no major changes to the screen sequence or the functionality of each screen, and there are no additional requirements placed on submitters.

The new release clarifies that the file size limit is 10 Mb. The maximum number of files per submission remains at 10. Note that one .zip file containing 10 files counts as 10 files.

Documents submitted via eFiling are still limited to those in the public domain. Users must not submit Privileged, Protected, Critical Energy Infrastructure (CEII) or Non-Internet Public (NIP) information through the eFiling system.

The Commission Staff prefers that eFiled documents be submitted in text-searchable formats, e.g., in Word or Print-to-PDF format, whenever possible.

Questions about this notice may be directed to Brooks Carter at 202-502-8145, or by e-mail to brooks.carter@ferc.gov. For assistance with eFiling, please e-mail FERCOnlineSupport@ferc.gov or call 1-866-208-3676 (toll free) or 202-502-6652 (local).

Magalie R. Salas,
Secretary.

Attachment A: New Qualified Documents Eligible for eFiling: (http://www.ferc.gov/docs-filing/efiling/docs-efiled.asp)

Electric Documents

FERC Form 60-Annual Report by Service Companies: The annual reports pursuant to 18 CFR 366.23 of the Commission's regulations that are required to be filed by May 1, 2006, and each May 1 thereafter, by any service company in a holding company system that is not a special purpose company (e.g., a fuel supply company or a construction company) that provides non-power goods or services to a Commission-jurisdictional public utility or natural gas company, unless otherwise exempted or granted a waiver by Commission rule or order. The hardcopy form is available at: http://www.ferc.gov/docs-filing/hard-fil.asp?new=sc1#60. The report may be filed as a spreadsheet file or a scanned document.

FERC-65A—Exemption Notification (18 CFR 366.4(b)): The notification required to be filed by persons seeking exemption from the requirements of PUHCA 2005 and the Commission's regulations under 18 CFR 366.3(a), or one of the class of exemptions adopted under 18 CFR 366.3(b).

FERC-65B—Waiver Notification (18 CFR 366.4(c)): The notification required to be filed by persons seeking waiver of the Commission's regulations under PUHCA 2005 pursuant to 18 CFR 366.3(c).

Form 523—Request for Permission to Issue Securities (18 CFR Part 34): Applications for authorization from the Commission to issue securities or assume an obligation or liability that are filed by (1) Licensees and other entities pursuant to sections 19 and 20 of the Federal Power Act, and (2) Public Utilities pursuant to section 204 of the Federal Power Act.

Hydropower Documents

ILP Initial and Updated Study Report: An annual report describing the progress in implementing the Commission-approved study plan and any modifications or new studies being proposed by the applicant, filed in accordance with 18 CFR 5.15.

ILP Notice of Request for Formal Dispute Resolution: A notice of study dispute with the Director of the Office of Energy Projects study determination as to a study that directly pertains to a federal agency's mandatory conditioning authority under Federal Power Act Sections 18 and 4(e) or agency or Indian tribe mandatory conditioning authority to issue a water quality certification under section 401 of the Clean Water Act, filed in accordance with 18 CFR 5.14.

ILP Proposed Study Plan: A license applicant's proposed study plan filed in accordance with 18 CFR 5.11 of the Commission's regulations.

ILP Revised Study Plan: A license applicant's revised study plan addressing any comments received on the proposed study plan and any agreements reached during the study plan meetings, filed in accordance with 18 CFR 5.13 of the Commission's regulations.

ILP Scoping Comments and Study Request: Comments on the Pre-Application Document and/or Scoping Document, and Study Requests filed in accordance with 18 CFR 5.9 of the Commission's regulations.

Notice of Intent and Pre-Application Document: A notice of an Applicant's intention to file for an original, new, or subsequent hydropower license application and the document describing all existing, relevant, and reasonably available information regarding the project proposal and its environmental effects, the content of which is completely public (i.e., does not contain Privileged, Critical Energy Infrastructure, or Non-Internet Public information), and is filed in accordance with 18 CFR 5.6 of the Commission's regulations.

Attachment B: PUHCA Filing Guidelines (http://www.ferc.gov/help/how-to/puhca-guidelines.pdf )

Filing Guidelines for Holding Company Filings Under the Public Utility Holding Company Act of 2005 and 18 CFR Part 366

This document contains the guidelines for the following filings pursuant to the Public Utility Holding Company Act of 2005 and Commission Order No. 667, issued December 8, 2005:

(1) FERC-65, Notification of Holding Company Status (18 CFR 366.4(a))

(2) FERC-65A, Exemption Notification (18 CFR 366.4(b))

(3) FERC-65B, Waiver Notification (18 CFR 366.4(c)), and

(4) SEC Financing Authorization Orders or Letters/Reports/Other Submissions (18 CFR 366.6(a) and (b))

(5) Notice of Self-Certification of Exempt Wholesale Generator Status (18 CFR 366.7)

(6) Notice of Self-Certification of Foreign Utility Company Status (18 CFR 366.7)

(7) FERC Form 60, Annual Report by Service Companies

FERC-65, FERC-65A, and FERC-65-B refer to FERC reporting designations and do not represent actual forms.

FERC-65, Notification of Holding Company Status (18 CFR 366.4(a))

Companies that are holding companies as of February, 8, 2006, shall notify the Commission of their status as a holding company no later than14 days after the Commission issues an order on rehearing. Holding companies formed after February 8, 2006, shall notify the Commission of their status no later than the later of 14 days after the Commission issues an order on rehearing or 30 days after their formation.

These notification filings should be submitted using the Commission's eFiling system available at http://www.ferc.gov/docs-filing/ferconline.asp. Do not include waiver or exemption notifications with these filings. The document you submit should include HC06-1-000 in the caption or heading of the document for any notification filed on or before September 30, 2006. During the eFiling submission process:

1. Select the filing type “Production of Document.”

2. On the Select Docket screen, enter HC06-1 in the docket number search block and select HC06-1-000 from the results.

3. Before you browse, select, and attach the file, make sure that the file name is less than 25 characters and contains no spaces or special characters.

4. On the Submission Description screen, edit the description by replacing “Production of Document” with “Notification of Holding Company Status.”

It is not necessary to include a form of notice for the Federal Register.

If you are unable to file electronically, you must submit an original and 14 paper copies of the filing to: Magalie R. Salas, Secretary, Federal Energy Regulatory Commission, 888 First Street, NE., Washington, DC 20426.

Please be advised that the United States Postal Service scans all documents addressed to the Commission with a heat-treatment process that may corrupt diskettes and render filings unusable. Please use express mail or courier delivery services.

FERC-65A (Exemption Notification) (18 CFR 366.4(b))

FERC-65B (Waiver Notification) (18 CFR 366.4(c))

These notifications should be submitted using the Commission's electronic filing system available at http://www.ferc.gov/docs-filing/ferconline.asp. Do not include Notifications of Holding Company Status (FERC-65) with these filings. The document you submit should include PH06-_-000 in the caption or heading of the document, for filings made on or before September 30, 2006. You must include a Form of Notice for publication in the Federal Register, either as part of the notification file or as a separate file. During the e-filing submission process:

1. Select filing type FERC 65A—Exemption Notification or FERC Form 65B—Waiver Notifications, as appropriate for your submission [there is no “form” for FERC-65A and B; these are merely reporting designations].

2. Before you browse, select, and attach the notification file (or notification and form of notice files), make sure that the file names are less than 25 characters and contain no spaces or special characters.

3. On the Submission Description screen, you may edit the default description to more fully describe your submission. The description will be used in eLibrary to describe your filing.

If you are unable to file electronically, you must submit an original and 14 paper copies of the filing, with a form of notice of the “PH” filing suitable for publication in the Federal Register on a 3½″ diskette, to: Magalie R. Salas, Secretary, Federal Energy Regulatory Commission, 888 First Street, NE., Washington, DC 20426.

Forms of notice for “PH” exemption and waiver notifications are available on the Commission's Web site at http://www.ferc.gov/docs-filing/not-form.asp.

Please be advised that the United States Postal Service scans all documents addressed to the Commission with a heat-treatment process that may corrupt diskettes and render filings unusable. Please use express mail or courier delivery services.

SEC-Related Financing Authorization Orders or Letters/Reports/Other Submissions (18 CFR 366.6(a) and (b))

Holding companies that intend to rely on financing authorization orders or letters issued by the Securities and Exchange Commission (SEC), or that submitted reports or other submissions previously with the SEC and that now must file with the Commission, must file these orders, letters, reports or other submissions with the Commission by March 10, 2006.

These filings should be submitted using the Commission's eFiling system, available at http://www.ferc.gov/docs-filing/ferconline.asp provided that the entire content of the filing is in the public domain. Do not include filings under any other section with the authorization orders. The document you submit should include HC06-2-000 (Note—do not use HC06-1-000 for such submittals) in the caption or heading of the document, for filings made on or before September 30, 2006. During the eFiling submission process:

1. Select the filing type “Production of Document.”

2. On the Select Docket screen, enter HC06-2 in the docket number search block and select HC06-2-000 from the results.

3. Before you browse, select, and attach the file, make sure that the file name is less than 25 characters and contains no spaces or special characters.

4. On the Submission Description screen, edit the description by replacing “Production of Document” with “SEC Financing Authorization Order/Letter”

It is not necessary to include a form of notice for the Federal Register.

If you are unable to file electronically, you must submit an original and 14 paper copies of the filing to: Magalie R. Salas, Secretary, Federal Energy Regulatory Commission, 888 First Street, NE., Washington, DC 20426.

Please be advised that the United States Postal Service scans all documents addressed to the Commission with a heat-treatment process that may corrupt diskettes and render filings unusable. Please use express mail or courier delivery services.

Self-Certification Notices for Exempt Wholesale Generators and Foreign Utility Companies (18 CFR 366.7)

An exempt wholesale generator or a foreign utility company, or their representative, may file with the Commission a notice of self-certification demonstrating that it satisfies the definition of exempt wholesale generator or foreign utility company. No filing fee is required for a notice of self-certification.

In the case of exempt wholesale generators, the person filing a notice of self-certification under this section must also represent in its filing that it has provided a copy of the notice to the state regulatory authority of the state in which the facility is located, and must further represent in its filing, to the extent necessary, that the state commission has made the “specific determination” provided in section 32(c) of the Public Utility Holding Company Act of 1935 (15 U.S.C. 79z-5a(c)).

In the case of foreign utility companies, the person filing a notice of self-certification under this section must represent in its filing that the relevant state commissions have certified that they had the authority and resources to protect ratepayers of public utility companies associated or affiliated with the foreign utility company.

Because notices of these filings will be published in the Federal Register, both exempt wholesale generators and foreign utility companies must include in their submission a separate file containing a form of notice suitable for publication in the Federal Register.

These filings should be submitted using the Commission's eFiling system, available at http://www.ferc.gov/docs-filing/ferconline.asp provided that the entire content of the filing is in the public domain. Do not include filings under any other section with these filings. The document you submit should include EG06-__-000 or FC06-__-000, as applicable, in the caption or heading of the document, for filings made on or before September 30, 2006. During the eFiling submission process:

1. Select the filing type “Qualifying Facility Notice of Self Certification.” (At a later date, this filing type will be changed to Notice of Self-Certification for QF's, EG's, and FC's.”)

2. Before you browse, select, and attach the file, make sure that the file names are less than 25 characters and contain no spaces or special characters.

3. On the Submission Description screen, edit the description by replacing “Qualifying Facility Notice of Self Certification” with either (a) “Exempt Wholesale Generator Notice of Self Certification” or (b) “Foreign Utility Company Notice of Self Certification”, as applicable.

If you are unable to file electronically, you must submit an original and 14 paper copies of the filing to: Magalie R. Salas, Secretary, Federal Energy Regulatory Commission, 888 First Street, NE., Washington, DC 20426.

You must include a form of notice of the “EG” or “FC” filing suitable for publication in the Federal Register on a 3½″ diskette.

Please be advised that the United States Postal Service scans all documents addressed to the Commission with a heat-treatment process that may corrupt diskettes and render filings unusable. Please use express mail or courier delivery services.

FERC Form 60—Annual Report by Service Companies

These reports, due May 1, 2006, should be submitted using the Commission's electronic filing system available at http://www.ferc.gov/docs-filing/ferconline.asp. The report may be submitted in any of the file formats acceptable for efiling, including spreadsheet or scanned image formats.

1. Select the filing type “FERC Form 60—Annual Report by Service Companies.”

2. On the Select Docket screen, enter HC06-3 in the docket number search block and select HC06-3-000 from the results.

3. Before you browse, select, and attach the file, make sure that the file name is less than 25 characters and contains no spaces or special characters.

4. On the Submission Description screen, edit the description, if necessary, to more accurately describe your submission.

If you are unable to file electronically, you must submit an original and 14 paper copies of the filing to: Magalie R. Salas, Secretary, Federal Energy Regulatory Commission, 888 First Street, NE., Washington, DC 20426.

You must include a form of notice of the “EG” or “FC” filing suitable for publication in the Federal Register on a 3½″ diskette.

Please be advised that the United States Postal Service scans all documents addressed to the Commission with a heat-treatment process that may corrupt diskettes and render filings unusable. Please use express mail or courier delivery services.

Attachment C: Form 523 Filing Guidelines

Filing Guidelines for Form 523—Request for Permission To Issue Securities or Assume Liabilities, Filed Pursuant to Federal Power Act Sections 19, 20, or 204 and 18 CFR Part 34

Applications for authorization from the Commission to issue securities or assume an obligation or liability that are filed by (1) Licensees and other entities pursuant to sections 19 and 20 of the Federal Power Act, and (2) Public Utilities pursuant to section 204 of the Federal Power Act, may now be submitted using the Commission's electronic filing system, subject to certain limitations. The eFiling system is available at http://www.ferc.gov/docs-filing/ferconline.asp.

Persons submitting these applications must not include filings under Federal Power Act Section 203 with their application. Section 203 filings must be submitted separately on paper with an original and eight copies [Section 203 applies to Applications for: (a) Sale or Lease of Facilities; (b) Merger or Consolidation of Facilities, and (c) Purchase of Securities of a Public Utility].

In addition, only the public portion of an application under 18 CFR part 34 may be submitted via eFiling. A single copy of any Non-Public materials must be submitted on paper or CD. It would be beneficial to include the Accession Number assigned to the electronic filing with the Non-Public submission, if possible.

The Form 523 application you submit should include ES06-__-000 in the caption or heading of the document, for filings made on or before September 30, 2006, one of the files you attach should contain a form of notice. The format for the notice is in the entry for 18 CFR 34.3 in the table at: http://www.ferc.gov/docs-filing/not-form.asp.

Once you have logged in to the eFiling system:

1. Select the filing type for Form 523 under the Electric Menu section.

2. Before you browse, select, and attach the files and form of notice files, make sure that the file names are less than 25 characters and contain no spaces or special characters.

3. You may attach up to 10 files with each file no greater than 10 Mb during a single efiling session. All files must be in the Public domain.

4. At the Submission screen, please edit the default description, if necessary, to more accurately describe your submission. This is the description that will appear in elibrary.

5. If it is necessary to submit a large application (e.g., one in which there are more than 10 files) in multiple eFiling sessions, then at the end of the Submission Description, add “Part 1 of __”, “Part 2 of __”, etc., to more clearly identify the parts of your application.

If your submission contains non-public material that must be filed on paper or CD, please include the accession numbers from the related eFiling(s) on the cover letter for the non-public submission, if possible. Otherwise, please send an e-mail to efiling@ferc.gov to let us know that you have both eFiled and paper/CD components to your submission. This helps us link the components of your submission together in eLibrary, the Commission's online document management system.

If you are unable to file electronically, you must submit an original and four paper copies of the public material and one original of any non-public material to: Magalie R. Salas, Secretary, Federal Energy Regulatory Commission, 888 First Street, NE., Washington, DC 20426.

Please be advised that the United States Postal Service scans all documents addressed to the Commission with a heat-treatment process that may corrupt diskettes and render filings unusable. Please use express mail or courier delivery services.

[FR Doc. E6-5559 Filed 4-13-06; 8:45 am]

BILLING CODE 6717-01-P